DEPARTMENT OF HEALTH AND HUMAN SERVICES

Centers for Disease Control and Prevention

[30 Day-08-0740]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Medical Monitoring Project (MMP) (OMB No. 0920-0740, exp. June 2010.)—Revision—National Center for HIV, Viral Hepatitis, STD and TB Prevention (NCHHSTP), Centers for Disease Control and Prevention (CDC).

Background and Brief Description

Some MMP interview questions were revised to make them easier for patients to understand and respond appropriately. Medical record abstraction sections were removed, and a provider survey has been added. Revisions to previously approved instruments have been included. The purpose of MMP is to supplement the HIV/AIDS surveillance programs in 26 selected state and local health departments, which collect information on persons diagnosed with, living with, and dying from HIV infection and AIDS.

MMP collects data on behaviors and clinical outcomes from a probability sample of HIV-infected adults receiving care in the U.S. Collection of data from interviews with HIV-infected patients provides information on patient demographics, and the current levels of behaviors that may facilitate HIV transmission: Sexual and drug use behaviors; patients' access to, use of and barriers to HIV-related secondary prevention services; utilization of HIV-related medical services; and adherence to drug regimens. Collection of data from patient medical records provide information on: Demographics and insurance status; the prevalence and incidence of AIDS-defining opportunistic illnesses and co-morbidities related to HIV disease; the receipt of prophylactic and antiretroviral medications; and whether patients are receiving screening and treatment according to Public Health Service guidelines. The provider survey will collect data from a nationally representative sample of HIV care providers selected to participate in MMP. The provider survey will collect information on: Health care providers' professional training history, ongoing sources of training and continuing education about HIV care and treatment, perceptions of patients' barriers to care and reasons for declining HIV care, awareness of HIV related resources, and approach to antiretroviral therapy management and HIV risk reduction counseling. No other Federal agency collects national population-based behavioral and clinical information from HIV-infected adults in care or HIV care providers.

The data will have significant implications for policy, program development, and resource allocation at the state/local and national levels. Users of MMP data include, but are not limited to, Federal agencies, State and local health departments, clinicians, researchers, and HIV prevention and care planning groups.

There are no costs to the respondents other than their time.

The total estimated annualized burden hours are 9,603.

Estimated Annualized Burden Hours
Type of respondent | Form name | Number of respondents | Number of responses per respondent | Average burden per response (in hours)
Patients | Standard Interview | 7,988 | 1 | 45/60
Patients | Short Interview | 332 | 1 | 20/60
Facility office staff | Medical Record Abstraction | 7,488 | 1 | 3/60
Facility office staff | None (providing estimated patient loads) | 936 | 1 | 2
Facility office staff | None providing patient lists) | 1,030 | 1 | 30/60
Facility office staff | None approaching patients for enrollment) | 3,120 | 1 | 5/60
Physicians, nurse practitioners, physician's assistants | Provider Survey | 1,440 | 1 | 20/60

Dated: March 5, 2009.
Maryam I. Daneshvar,
Acting Reports Clearance Officer, Centers for Disease Control and Prevention.

[FR Doc. E9-5489 Filed 3-12-09; 8:45 am]

BILLING CODE 4163-18-P